DEPARTMENT OF TRANSPORTATION

Maritime Administration

[Docket No. MARAD-2024-0158]

Request for Comments on the Renewal of a Previously Approved Collection: Application for Construction Reserve Fund and Annual Statements (CRF)

AGENCY: Maritime Administration, DOT.

ACTION: Notice.

SUMMARY: The Maritime Administration (MARAD) invites public comments on our intention to request the Office of Management and Budget (OMB) approval to renew an information collection in accordance with the Paperwork Reduction Act of 1995. The proposed collection OMB 2133-0032 (Application for Construction Reserve Fund (CRF) and Annual Statements) is used to evaluate an applicant's eligibility for CRF program benefits. There was a reduction in the public burden since the last renewal. We are required to publish this notice in the Federal Register to obtain comments from the public and affected agencies.

ADDRESSES: Written comments and recommendations for the proposed information collections should be sent within 30 days of publication of this notice to www.reginfo.gov/public/do/ PRAMain. Find this information collection by selecting “Currently under 30-day Review—Open for Public Comments” or by using the search function.

FOR FURTHER INFORMATION CONTACT: David M. Gilmore, Director, 202-366-5737, Office of Marine Financing, Maritime Administration, U.S. Department of Transportation, 1200 New Jersey Avenue SE, Washington, DC 20590, Email: David.gilmore@dot.gov.

SUPPLEMENTARY INFORMATION:

Title: Application for Construction Reserve Fund Program (CRF).

OMB Control Number: 2133-0032.

Type of Request: Extension of a previously approved collection.

Abstract: The Construction Reserve Fund Program (CRF), authorized by 46 U.S.C. chapter 533, is a financial assistance program which provides tax deferral benefits to U.S.-flag operators. Eligible parties can defer the gain attributable to the sale or loss of a vessel, provided the proceeds are used to expand or modernize the U.S. merchant fleet. The primary purpose of the CRF is to promote the construction, reconstruction, reconditioning, or acquisition of merchant vessels which are necessary for national defense and to the development of U.S. commerce.

Respondents: Citizens who own or operate vessels in the U.S. foreign or domestic commerce who desire tax benefits under the CRF must respond.

Affected Public: Owners or operators of vessels in the domestic or foreign commerce.

Estimated Number of Respondents: 10.

Estimated Number of Responses: 10.

Estimated Hours per Response: 9.

Annual Estimated Total Annual Burden Hours: 90.

Frequency of Response: Once Annually.

A 60-day Federal Register Notice soliciting comments on this information collection was published on October 1, 2024 (89 FR 80011) in the Federal Register indicating comments should be submitted by December 2, 2024. No comments were received.

(Authority: The Paperwork Reduction Act of 1995; 44 U.S.C. chapter 35, as amended; and 49 CFR 1.49.)

By Order of the Maritime Administrator.
T. Mitchell Hudson, Jr.,
Secretary, Maritime Administration.

[FR Doc. 2024-29537 Filed 12-13-24; 8:45 am]

BILLING CODE 4910-81-P